DEPARTMENT OF ENERGY

Worker Advocacy Advisory Committee Meeting

AGENCY: Department of Energy.

ACTION: Notice of open teleconference meeting.

SUMMARY: This notice announces an open teleconference meeting of the Worker Advocacy Advisory Committee (WAAC).

The Federal Advisory Committee Act (Pub. L. No. 92-463, 86 Stat. 770), requires that notice of this meeting be published in the Federal Register to allow for public participation. The purpose of the meeting is to provide the Committee and public participants with a status update on the implementation of the Energy Employees Occupational Illness Compensation Program Act of 2000. The program is scheduled to be launched on July 31, 2001. Representatives from the four agencies involved in this program (Department of Energy, Department of Labor, Department of Health and Human Services, and Department of Justice) will summarize progress in their respective programs, and provide details on plans for the program rollout on July 31.

DATES: Friday, July 20, 2001, 1 -5 p.m.

ADDRESSES: Participants may call the Office of Worker Advocacy at (202) 586-2407 to reserve a teleconference line and receive a call-in number. Public participation is welcomed. However, the number of teleconference lines is limited and will be made available on a first-come, first-serve basis.

FOR FURTHER INFORMATION CONTACT: Judy Keating, Executive Administrator, Worker Advocacy Advisory Committee, U.S. Department of Energy, EH-8, 1000 Independence Avenue, SW., Washington, DC 20585, Telephone Number 202-586-7551, E-mail: judy.keating@eh.doe.gov.

SUPPLEMENTARY INFORMATION: Purpose of the Meeting: To provide advice to the Director of the Office of Worker Advocacy of the Department of Energy on plans, priorities, and strategies for assisting workers who have been diagnosed with work-related illnesses.

Tentative Agenda:

Welcome and Introduction

Opening Remarks

Status of Implementation of Energy Employees Occupational Illness Compensation Act

Public Comment

Next Steps/Path Forward

Public Participation: This teleconference meeting is open to the public on a first-come, first-serve basis because of the extremely limited number of telephone lines. Written statements may be filed with the committee before or after the meeting. Members of the public who wish to make oral statements pertaining to agenda items should contact Judy Keating at the address or telephone listed above. Requests to make oral statements must be made and received five days prior to the meeting; reasonable provision will be made to include the statement in the agenda. The Chair of the committee is empowered to conduct the meeting in a fashion that will facilitate the orderly conduct of business. For those who may not be able to participate due to the limited phone lines, please note that there will be a follow up public meeting of the Worker Advocacy Advisory Committee in Denver, Colorado at the end of August. Details of that meeting are still being worked out.

Minutes: The minutes of this meeting will be available for public review and copying at the Freedom of Information Reading Room, 1E-190, Forrestal Building, 1000 Independence Avenue, SW., Washington, DC, between 9 a.m. and 4 p.m., Monday through Friday, except holidays.

Issued in Washington, D.C. on June 22, 2001.
Belinda Hood,
Acting Deputy Advisory Committee Management Officer.

[FR Doc. 01-16262 Filed 6-27-01; 8:45 am]

BILLING CODE 6450-01-P